SOCIAL SECURITY ADMINISTRATION

[Docket No. SSA-2017-0046]

Social Security Ruling, SSR 20-01p: How We Determine an Individual's Education Category

AGENCY: Social Security Administration.

ACTION: Notice of Social Security Ruling (SSR).

SUMMARY: We are providing notice of SSR 20-01p. This Ruling explains how we determine an individual's education category in adult disability claims under titles II and XVI of the Social Security Act.

DATES: We will apply this notice on April 27, 2020.

FOR FURTHER INFORMATION CONTACT: Dan O'Brien, Office of Disability Policy, Social Security Administration, 6401 Security Boulevard, Baltimore, MD 21235-6401, 410-597-1632. For information on eligibility or filing for benefits, call our national toll-free number at 1-800-772-1213 or TTY 1-800-325-0778, or visit our internet site, Social Security online, at http://www.socialsecurity.gov.

SUPPLEMENTARY INFORMATION: Although 5 U.S.C. 552(a) (1) and (a)(2) do not require us to publish this SSR, we are doing so under 20 CFR 402.35(b)(1).

We use SSRs to make available to the public precedential decisions relating to the Federal old age, survivors, disability, supplemental security income, and special veterans benefits programs. We may base SSRs on determinations or decisions made in our administrative review process, Federal court decisions, decisions of our Commissioner, opinions from our Office of the General Counsel, or other interpretations of law and regulations.

Although SSRs do not have the same force and effect as statutes or regulations, they are binding on all of our components. 20 CFR 402.35(b)(1).

This SSR will remain in effect until we publish a notice in the Federal Register that rescinds it, or until we publish a new SSR in the Federal Register that rescinds and replaces or modifies it.

(Catalog of Federal Domestic Assistance, Programs Nos. 96.001, Social Security—Disability Insurance; 96.002, Social Security— Retirement Insurance; 96.004, Social Security—Survivors Insurance; 96.006—Supplemental Security Income.)

Dated: February 10, 2020.
Andrew Saul,
Commissioner of Social Security.

Policy Interpretation Ruling

SSR 20-01p: Titles II and XVI: How We Determine an Individual's Education Category

Purpose: This Social Security Ruling (SSR) explains how we determine an individual's education category in adult initial disability decisions, determinations, redeterminations, and continuing disability reviews under titles II and XVI of the Social Security Act.

Citations (Authority): Sections 223(d)(2)(A), 225, 221(i), 1614(a)(3)(B), and 1614(a)(3)(H) of the Social Security Act, as amended and 20 CFR 404.1520, 404.1564, Part 404 Subpart P Appendix 2, 416.920, and 416.964.

Background

We use a five-step sequential evaluation process to determine whether an individual is disabled or blind under titles II and XVI of the Act.¹ If we are unable to make a disability finding at the first four steps, we consider an individual's residual functional capacity (RFC) ² and the vocational factors of age, education, and work experience to determine whether the individual is able to perform work that exists in significant numbers in the national economy.³

¹ See 20 CFR 404.1520 and 416.920.

² See 20 CFR 404.1545 and 416.945. RFC is the most an individual can do despite his or her limitations.

³ See 20 CFR 404.1520(g), 404.1560(c), 416.920(g), and 416.960(c).

Our rules explain how we evaluate the vocational factor of education.⁴ Education primarily means formal schooling or other training that contributes to an individual's ability to meet vocational requirements, such as reasoning ability, communication skills, and arithmetical ability.⁵ The lack of formal schooling does not necessarily mean that the individual is uneducated or does not have these abilities.⁶ Past work experience and the kinds of responsibilities the individual had while working, daily activities, hobbies, or results of testing may show that the individual has significant intellectual ability that can be used to work.⁷

⁴ See 20 CFR 404.1564 and 416.964.

⁵ See 20 CFR 404.1564(a) and 416.964(a).

⁶ Id.

⁷ Id.

We use the following four education categories to evaluate an individual's education level: ⁸

⁸ See 20 CFR 404.1564(b)(1)-(4) and 416.964(b)(1)-(4). We no longer have an education category of “inability to communicate in English” as of April 27, 2020. We published a final rule “Removing the Inability to Communicate in English as an Education Category” that removed this education category on February 25, 2020 (85 FR 10586).

1. High school education and above. High school education and above means abilities in reasoning, arithmetic, and language skills acquired through formal schooling at a 12th grade level or above. We generally consider that someone with these educational abilities can do semi-skilled through skilled work.⁹

⁹ We consider a general educational development (GED) certification as equivalent to high school education.

2. Limited education. Limited education means ability in reasoning, arithmetic, and language skills, but not enough to allow a person with these educational qualifications to do most of the more complex job duties needed in semi-skilled or skilled jobs. We generally consider that a 7th grade through the 11th grade level of formal education is a limited education.

3. Marginal education. Marginal education means ability in reasoning, arithmetic, and language skills that are needed to do simple, unskilled types of jobs. We generally consider that formal schooling at a 6th grade level or less is a marginal education.

4. Illiteracy. Illiteracy means an inability to read or write. We consider someone illiterate if the person cannot read or write a simple message such as instructions or inventory lists even though the person can sign his or her name. Generally, an illiterate person has had little or no formal schooling.

Policy Interpretation

I. Categories of High School Education and Above, Limited Education, and Marginal Education

We generally use the highest numerical grade level of formal education an individual has completed in school regardless of the language used for instruction to determine whether the individual belongs in the education category of high school education and above, limited education, or marginal education. An individual's highest numerical grade level generally reflects the individual's educational abilities, such as reasoning, arithmetic, and communication skills.¹⁰ The highest numerical grade level that the individual completed in school, however, may not represent his or her actual educational abilities.¹¹ Evidence such as past work experience, the kind of responsibility an individual may have had when working, daily activities, hobbies, results of testing, community projects, or vocational training, may show that an individual's actual educational abilities are higher or lower than his or her formal education level. In such situations, we may assign an individual to a higher or lower education category, as appropriate.

¹⁰ See 20 CFR 404.1564(b) and 416.964(b).

¹¹ Id.

Further, when determining the appropriate education category, we may consider whether an individual received special education. For example, an extensive history of special education may show that the individual's educational abilities are lower than the actual grade he or she completed.

We, however, will not find an individual's education category to be lower than his or her highest level of formal education based solely on an individual's history of having received special education. In all cases, we determine facts on an individual basis. Therefore, to assign an individual to an education category lower or higher than his or her highest level of formal education, there must be specific evidence supporting the finding in the determination or decision.

When determining the appropriate education category, we will not consider whether an individual attained his or her education in another country or whether the individual lacks English language proficiency. Neither the country in which an individual was educated nor the language an individual speaks informs us about whether the individual's reasoning, arithmetic, and language abilities are commensurate with his or her formal education level.¹²

¹² Specific to language abilities, if there is a question as to whether an individual's actual language abilities are higher or lower than his or her formal education level, we use the language in which the individual most effectively communicates. For most individuals, this language is the language that they use in most situations, including at home, work, school, and in the community.

Generally, when determining the appropriate education category, we will use the information an individual provides. We may request relevant records, such as school or government records, to verify the reported level of formal education and educational abilities.

II. Category of Illiteracy

A. Generally

We consider an individual illiterate if he or she cannot read or write a simple message, such as instructions or inventory lists, even though the individual can sign his or her name.¹³ We will assign an individual to the illiteracy category only if the individual is unable to read or write a simple message in any language.

¹³ See 20 CFR 404.1564(b)(1) and 416.964(b)(1).

B. Formal Education and the Ability To Read and Write a Simple Message

Generally, an individual's educational level is a reliable indicator of the individual's ability to read and write a simple message. A strong correlation exists between formal education and literacy, which under our rules means an ability to read and write a simple message. Most individuals learn to read and write at least a simple message by the time they complete fourth grade, regardless of whether the schooling occurred in the United States or in another country.¹⁴ We will therefore use an individual's formal education level as the starting point to determine whether the individual is illiterate.

¹⁴ Typically, fourth grade is when students transition from a focus on learning to read to a focus on reading to learn. See Reading Achievement of U.S. Fourth-Grade Students in an International Context, https://nces.ed.gov/pubs2018/2018017.pdf, p.1. The rate of literacy (defined as an ability to understand, read, and write a short, simple statement on everyday life) increased from 33.4% with one year of primary schooling to 95.3% with four years of primary schooling. How Was Life?: Global Well-being since 1820, OECD Publishing, Juan Luitan van Zanden., et al. (eds.) (2014), p. 91, available at https://read.oecd-ilibrary.org/economics/how-was-life_9789264214262-en#page93. The Common Core reading and writing standards for primary schools demonstrate that an individual who completed fourth grade education should be able to read and write a simple message. http://www.corestandards.org/assets/CCSSI_ELA%20Standards.pdf, pp.10-33. Finally, the Progress in International Reading Literacy Study, an international assessment of student performance in reading at the fourth grade, shows that the majority of countries that participated in the study were able to educate nearly all their students to a basic level of reading achievement. See http://timssandpirls.bc.edu/pirls2016/international-results/pirls/performance-at-international-benchmarks/ and https://nces.ed.gov/pubs2018/2018017.pdf, pp. 4, 9-10.

If evidence suggests an individual may be illiterate, we will determine whether the illiteracy category is appropriate as follows:

i. Individuals Who Completed at Least a Fourth Grade Education

Most individuals who have completed at least fourth grade can read and write a simple message. We will generally find that an individual who completed fourth grade or more is able to read and write a simple message and is therefore not illiterate.

We may still find, however, that an individual with at least a fourth grade education is illiterate if the individual provides evidence showing that despite having completed fourth grade or more, he or she cannot, in fact, read or write a simple message in any language. Examples of relevant evidence may include whether an individual:

• Has received long-term special education related to difficulty learning to read or write at a basic level;

• lacks work history due to an inability to read or write;

• has valid intelligence test results demonstrating an inability to read or write a simple message;

• has valid reading and writing test results demonstrating an inability to read or write a simple message; and

• has any other evidence demonstrating an inability to read or write a simple message.

We will assign an individual who completed fourth grade education or more to the illiteracy category only if the evidence supports the finding that despite having completed fourth grade education or more, the individual is unable to read or write a simple message in any language. We will not rely on test results alone to determine that illiteracy is the appropriate education category for an individual.

ii. Individuals Who Completed Less Than a Fourth Grade Education

Formal education is not the only way individuals learn to read and write; therefore, we do not make any general finding that illiteracy is the appropriate category for individuals who have not completed a fourth grade education. The mere fact that an individual has little or no formal education does not mean that the individual is unable to read or write. Therefore, we will consider all relevant evidence in the claim to determine whether illiteracy is the appropriate education category. Examples of relevant evidence may include whether an individual:

• Has worked in the past and the responsibilities he or she had when working;

• can read, write, and understand short and simple statements in everyday life, such as shopping lists, short notes, and simple directions;

• can read newspapers or books;

• can read and write simple emails or text messages;

• had any vocational training or certification requiring reading and writing;

• has or ever had a driver's license that required passing a written test; and

• has any other evidence demonstrating an inability to read or write a simple message.

We will assign an individual to the illiteracy category only if the evidence supports a finding that the individual is unable to read or write a simple message in any language. We will not, however, rely on test results alone to determine that illiteracy is the appropriate education category for an individual.

[FR Doc. 2020-04668 Filed 3-6-20; 8:45 am]

BILLING CODE 4191-02-P